DEPARTMENT OF ENERGY

Federal Energy Regulatory Commission

[Project No. 12462-000]

Indian River Power Supply, LLC; Notice of Application Ready for Environmental Analysis, and Soliciting Comments, Terms and Conditions, Recommendations, and Prescriptions

March 31, 2005.

Take notice that the following hydroelectric application has been filed with the Commission and is available for public inspection.

a. Type of Application: 5-MW Exemption.

b. Project No.: 12462-000.

c. Date Filed: July 28, 2003.

d. Applicant: Indian River Power Supply, LLC.

e. Name of Project: Indian River.

f. Location: On the Westfield River, in the Town of Russell, Hampden County, Massachusetts.

g. Filed Pursuant to: Public Utility Regulatory Policies Act of 1978, 16 U.S.C. 2705, 2708.

h. Applicant Contact: Peter B. Clark, P.O. Box 149, Hamilton, Massachusetts 01936.

i. FERC Contact: Michael Spencer, (202) 502-6093, michael.spencer@ferc.gov.

j. Deadline for filing comments, recommendations, terms and conditions, and prescriptions is 60 days from the issuance of this notice; reply comments are due 105 days from the issuance date of this notice.

All Documents (Original and Eight Copies) Should be Filed With: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “eFiling” link.

k. This application has been accepted and is now ready for environmental analysis.

l. Description of Project: The Indian River Project would consist of: (1) The existing 30-foot-high, 425-foot-long Russell dam with flashboards; (2) a 14.11 acre reservoir; (3) a rackhouse for intake of the reservoir flow; (4) two 7-foot-diameter, 60-foot-long penstocks; (5) a powerhouse containing two generating units with a combined capacity of 700 kW and an estimated average annual generation of 3.2 GWh; (6) a 60-foot-long tailrace; (7) a 400-foot-long transmission line; and (8) appurtenant facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via email of new filings and issuances related to this or other pending projects. For assistance, contact FERC Online Support.

n. Procedural Schedule: The Commission staff proposes to issue one Environmental Assessment (EA) rather than issuing a draft and final EA. Staff intends to allow 30 days for entities to comment on the EA, and will take into consideration all comments received on the EA before final action is taken on the exemption application. The application will be processed according to the schedule, but revisions to the schedule may be made as appropriate:

Action | Date
Notice availability of EA | Aug. 2005.
Ready for Commission Decision on Application | Nov. 2005.

Magalie R. Salas,
Secretary.

[FR Doc. E5-1636 Filed 4-7-05; 8:45 am]

BILLING CODE 6717-01-P